DEPARTMENT OF HOMELAND SECURITY

Coast Guard

33 CFR Part 117

[Docket No. USCG-2016-0402]

Drawbridge Operation Regulation; Saugatuck River, Saugatuck, CT

AGENCY: Coast Guard, DHS.

ACTION: Notice of deviation from drawbridge regulation.

SUMMARY: The Coast Guard has issued a temporary deviation from the operating schedule that governs the Metro-North “SAGA” Bridge across the Saugatuck River, mile 1.1, at Saugatuck, Connecticut. This deviation is necessary to allow the bridge owner to perform timber tie and headblock replacements at the bridge.

DATES: This deviation is effective from 8 a.m. on July 18, 2016 to 8 a.m. on August 29, 2016.

ADDRESSES: The docket for this deviation, [USCG-2016-0402] is available at http://www.regulations.gov. Type the docket number in the “SEARCH” box and click “SEARCH”. Click on Open Docket Folder on the line associated with this deviation.

FOR FURTHER INFORMATION CONTACT: If you have questions on this temporary deviation, call or email Judy Leung-Yee, Project Officer, First Coast Guard District, telephone (212) 514-4330, email judy.k.leung-yee@uscg.mil.

SUPPLEMENTARY INFORMATION: The bridge owner, Connecticut Department of Transportation, requested a temporary deviation from the normal operating schedule to perform timber ties and headblocks replacement at the bridge.

The Metro-North Saga Bridge, mile 1.1, across the Saugatuck River, has a vertical clearance in the closed position of 13 feet at mean high water and 20 feet at mean low water.

The existing bridge operating regulations are found at 33 CFR 117.221(b).

The waterway is transited by seasonal recreational vessels.

Under this temporary deviation, the Metro-North Saga Bridge will operate according to the schedule below:

a. From 8 a.m. on July 18, 2016 through 4 a.m. on July 22, 2016, the bridge will not open to marine traffic.

b. From 4 a.m. on July 22, 2016 through 8 a.m. on July 25, 2016, the bridge will open fully on signal upon 24 hr advance notice.

c. From 8 a.m. on July 25, 2016 through 4 a.m. on July 29, 2016, the bridge will not open to marine traffic.

d. From 4 a.m. on July 29, 2016 through 8 a.m. on August 1, 2016, the bridge will open fully on signal upon 24 hr advance notice.

e. From 8 a.m. on August 1, 2016 through 4 a.m. on August 5, 2016, the bridge will not open to marine traffic.

f. From 4 a.m. on August 5, 2016 through 8 a.m. on August 8, 2016, the bridge will open fully on signal upon 24 hr advance notice.

g. From 8 a.m. on August 8, 2016 through 4 a.m. on August 12, 2016, the bridge will not open to marine traffic.

h. From 4 a.m. on August 12, 2016 through 8 a.m. on August 15, 2016, the bridge will open fully on signal upon 24 hr advance notice.

i. From 8 a.m. on August 15, 2016 through 4 a.m. on August 19, 2016, the bridge will not open to marine traffic.

j. From 4 a.m. on August 19, 2016 through 8 a.m. on August 22, 2016, the bridge will open fully on signal upon 24 hr advance notice.

k. From 8 a.m. on August 22, 2016 through 4 a.m. on August 26, 2016, the bridge will not open to marine traffic.

l. From 4 a.m. on August 26, 2016 through 8 a.m. on August 29, 2016, the bridge will open fully on signal upon 24 hr advance notice.

Vessels able to pass under the bridge in the closed position may do so at anytime. The bridge will not be able to open for emergencies and there is no immediate alternate route for vessels to pass. The Coast Guard will inform the users of the waterways through our Local Notice and Broadcast to Mariners of the change in operating schedule for the bridge so that vessel operations can arrange their transits to minimize any impact caused by the temporary deviation.

In accordance with 33 CFR 117.35(e), the drawbridge must return to its regular operating schedule immediately at the end of the effective period of this temporary deviation. This deviation from the operating regulations is authorized under 33 CFR 117.35.

Dated: June 3, 2016.
C.J. Bisignano,
Supervisory Bridge Management Specialist, First Coast Guard District.

[FR Doc. 2016-13653 Filed 6-8-16; 8:45 am]

BILLING CODE 9110-04-P